ENVIRONMENTAL PROTECTION AGENCY

[FRL-10133-01-OA]

Request for Nominations of Candidates for the Science Advisory Board Clean Air Status and Trends Network

AGENCY: Environmental Protection Agency (EPA).

ACTION: Notice.

SUMMARY: The Environmental Protection Agency (EPA) Science Advisory Board (SAB) Staff Office requests public nominations of scientific experts to form a Panel to review the EPA Clean Air Status and Trends Network (CASTNET). This panel will review Agency presentations on the history, operation, contributions, and options for future operation of the monitoring network to offer advice regarding the future of this monitoring network.

DATES: Nominations should be submitted by September 9, 2022 per the instructions below.

FOR FURTHER INFORMATION CONTACT: Any member of the public wishing further information regarding this Notice and Request for Nominations may contact Dr. Bryan J. Bloomer, Designated Federal Officer (DFO), EPA Science Advisory Board Staff Office by telephone/voice mail (202) 564-4222, or email at bloomer.bryan@epa.gov. General information concerning the EPA SAB can be found at the EPA SAB website at https://sab.epa.gov.

SUPPLEMENTARY INFORMATION:

Background: The SAB (42 U.S.C. 4365) is a chartered Federal Advisory Committee that provides independent scientific and technical peer review, advice, and recommendations to the EPA Administrator on the technical basis for EPA actions. As a Federal Advisory Committee, the SAB conducts business in accordance with the Federal Advisory Committee Act (FACA) (5 U.S.C. App. 2) and related regulations. The SAB Staff Office is forming an expert panel, the CASTNET review panel, under the auspices of the Chartered SAB. The CASTNET review panel will provide advice through the chartered SAB. The SAB and the CASTNET review panel will comply with the provisions of FACA and all appropriate SAB Staff Office procedural policies.

The CASTNET review panel will conduct the review of the monitoring network operated by the EPA's Office of Air and Radiation (OAR). The Clean Air Status and Trends Network (CASTNET) is a national long-term monitoring network that provides data to characterize ambient pollutant concentrations in rural communities, estimate atmospheric deposition of air pollutants and quantify their ecological effects, and assess the effectiveness of the Agency's regulatory programs (e.g., air quality and deposition trends). The CASTNET Review Panel will conduct the review of CASTNET as requested by the EPA's Office of Air and Radiation. CASTNET measurements were initially designed, and are currently used, to evaluate the efficacy of regional and national air pollution control programs (e.g., atmospheric deposition and to inform ozone NAAQS attainment). Over the last 15 years, measurements were also used to review, set, and assess compliance with the primary and secondary NAAQS (i.e., O3, PM, SOX,NOX); support scientific advances in understanding the fate and regional transport of ozone and PM2.5 precursors, including evaluating the possible impact of climate change on air pollution; and underpin development, evaluation, and application of air quality models used by the Agency to establish effective regulations. The rural network is unique from, and complimentary to, state regulatory measurements (e.g., SLAMS) that are typically located within urban population centers. CASTNET is managed and operated in cooperation with the National Park Service, Bureau of Land Management, and other partners, including federal, state, and local agencies, and seven Native American tribes. The CASTNET program of EPA/OAR is a major contributor to the National Acid Deposition Program (NADP), a long-term cooperative environmental monitoring effort of federal, state, and tribal agencies, educational institutions, non-governmental organizations, and private companies. These programs monitor atmospheric concentrations and deposition of pollutants and their effects on ecosystems. NADP consists of more than 250 sites across North America, including the National Trends Network (NTN), which monitors precipitation chemistry, and the Ammonia Monitoring Network (AMoN), which monitors ambient ammonia concentrations. EPA/OAR supports 28 NTN sites and 61 AMoN sites. Many of the CASTNET and NADP/NTN sites have been operating for more than 30 years and have been used to observe climate and changing weather impacts on air quality and air pollution.

Request for Nominations: The SAB Staff Office is seeking nominations of nationally and internationally recognized scientists with demonstrated expertise in the following disciplines: Atmospheric Sciences, Air Quality Monitoring, Atmospheric Modeling, Atmospheric Chemistry, Ecology, Geostatistics, Biogeochemical Cycling, and Climate Change.

Strongest consideration will be given to individuals with demonstrated experience (as documented in their curriculum vitae and publication history) with atmospheric chemical and particle wet and dry deposition; nitrogen impacts in ecosystems; critical loads; climate change impacts on air quality; differences in rural and urban air quality; photochemistry; atmospheric ammonia measurements, modeling and emission inventories; analysis of long-term environmental trends; forest ecology; soil chemistry; stream and lake chemistry; and biological monitoring of acid sensitive species.

Process and Deadline for Submitting Nominations: Any interested person or organization may nominate qualified individuals in the areas of expertise described above for possible service on the SAB Panel. Individuals may self-nominate. Nominations should be submitted in electronic format (preferred) using the online nomination form on the SAB website at https://sab.epa.gov (see the “Public Input on Membership” list under “Committees, Panels, and Membership” following the instructions for “Nominating Experts to Advisory Panels and Ad Hoc Committees Being Formed,” provided on the SAB website (see the “Nomination of Experts” link under “Current Activities” at https://sab.epa.gov). To be considered, nominations should include the information requested below. EPA values and welcomes diversity. All qualified candidates are encouraged to apply regardless of sex, race, disability, or ethnicity. Nominations should be submitted in time to arrive no later than September 9, 2022.

The following information should be provided on the nomination form: contact information for the person making the nomination; contact information for the nominee; and the disciplinary and specific areas of expertise of the nominee. Nominees will be contacted by the SAB Staff Office and will be asked to provide a recent curriculum vitae and a narrative biographical summary that includes current position, educational background; research activities; sources of research funding for the last two years; and recent service on other national advisory committees or national professional organizations. Persons having questions about the nomination procedures, or who are unable to submit nominations through the SAB website, should contact the DFO at the contact information noted above. The names and biosketches of qualified nominees identified by respondents to this Federal Register Notice, and additional experts identified by the SAB Staff Office, will be posted in a List of Candidates for the Panel on the SAB website at https://sab.epa.gov. Public comments on the List of Candidates will be accepted for 21 days. The public will be requested to provide relevant information or other documentation on nominees that the SAB Staff Office should consider in evaluating candidates.

For the EPA SAB Staff Office, a balanced review panel includes candidates who possess the necessary domains of knowledge, the relevant scientific perspectives (which, among other factors, can be influenced by work history and affiliation), and the collective breadth of experience to adequately address the charge. In forming the expert panel, the SAB Staff Office will consider public comments on the Lists of Candidates, information provided by the candidates themselves, and background information independently gathered by the SAB Staff Office. Selection criteria to be used for panel membership include: (a) scientific and/or technical expertise, knowledge, and experience (primary factors); (b) availability and willingness to serve; (c) absence of financial conflicts of interest; (d) absence of an appearance of a loss of impartiality; (e) skills working in committees, subcommittees and advisory panels; and (f) for the panel as a whole, diversity of expertise and scientific points of view.

The SAB Staff Office's evaluation of an absence of financial conflicts of interest will include a review of the “Confidential Financial Disclosure Form for Environmental Protection Agency Special Government Employees” (EPA Form 3110-48). This confidential form is required and allows government officials to determine whether there is a statutory conflict between a person's public responsibilities (which include membership on an EPA federal advisory committee) and private interests and activities, or the appearance of a loss of impartiality, as defined by federal regulation. The form may be viewed and downloaded through the “Ethics Requirements for Advisors” link on the SAB website at https://sab.epa.gov. This form should not be submitted as part of a nomination.

The approved policy under which the EPA SAB Office selects members for subcommittees and review panels is described in the following document: Overview of the Panel Formation Process at the Environmental Protection Agency Science Advisory Board (EPA-SAB-EC-02-010), which is posted on the SAB website at https://sab.epa.gov.

V Khanna Johnston,
Deputy Director, Science Advisory Board Staff Office.

[FR Doc. 2022-17871 Filed 8-18-22; 8:45 am]

BILLING CODE 6560-50-P